DEPARTMENT OF THE INTERIOR

National Park Service

[NPS-WASO-NAGPRA-16875; PPWOCRADN0-PCU00RP14.R50000]

Notice of Inventory Completion: Glenn A. Black Laboratory of Archaeology at Indiana University, Bloomington, IN

AGENCY: National Park Service, Interior.

ACTION: Notice.

SUMMARY: The Glenn A. Black Laboratory of Archaeology at Indiana University has completed an inventory of human remains and associated funerary objects in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Indiana University NAGPRA Office. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Indiana University NAGPRA Office at the address in this notice by December 17, 2014.

ADDRESSES: Dr. Jayne-Leigh Thomas, NAGPRA Director, Indiana University, NAGPRA Office, Student Building 318, 701 E. Kirkwood Ave., Bloomington, IN 47405, telephone (812) 856-5315, email thomajay@indiana.edu.

SUPPLEMENTARY INFORMATION: Notice is here given in accordance with the Native American Graves Protection and Repatriation Act (NAGPRA), 25 U.S.C. 3003, of the completion of an inventory of human remains and associated funerary objects under the control of the Glenn A. Black Laboratory of Archaeology at Indiana University, Bloomington, IN. The human remains and associated funerary objects were removed from Crittenden, Cross, Mississippi, and St. Francis Counties in Arkansas and Coahoma and DeSoto Counties in Mississippi.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and associated funerary objects was made by Indiana University professional staff in consultation with representatives of The Quapaw Tribe of Indians.

History and Description of the Remains

On April 27, 1953, human remains representing, at minimum, 1 individual were recovered from the “B.U.” site in the Jericho Quadrangle of Crittenden County, AR. These human remains were received at the Glenn A. Black Laboratory of Archaeology as a donation from a Mr. J.E. Boone. Notes indicate the discovery of a wide-mouthed bottle with the human remains. However, the whereabouts of the wide-mouthed bottle are unknown, and the Glenn A. Black Laboratory of Archaeology has no record of this wide-mouthed bottle in their collection. No known individuals were identified. No associated funerary objects are present.

In January 1953, human remains representing, at minimum, 1 individual were collected by Wiley Wilcox of Memphis, TN, from the Bradley site in Crittenden County, AR. These materials were donated to the Glenn A. Black Laboratory of Archaeology. No known individuals were identified. The 1 associated funerary object is a seed. Notes indicate the seed was found within a pot; however, the whereabouts of the pot are unknown, and the Glenn A. Black Laboratory of Archaeology has no record of this pot within their collection.

On an unknown date, human remains representing, at minimum, 12 individuals were removed from the Gant site in Mississippi County, AR, by unknown persons. This material was donated to the Glenn A. Black Laboratory of Archaeology by Wiley Wilcox of Memphis, TN, in January 1953. No known individuals were identified. The 16 associated funerary objects are 4 reconstructed pots and 12 pot sherds.

In August 1952, human remains representing, at minimum, 4 individuals were excavated from the Gant Site in Mississippi County, AR, by George and Francis Martin. This collection was donated to the Glenn A. Black Laboratory of Archaeology in July 1985. No known individuals were identified. The 38 associated funerary objects are 5 reconstructed pots, 29 pot sherds, 1 shell fragment, 1 vial of burnt bone, 1 vial of excavation debris, and 1 piece of clay.

On an unknown date, human remains representing, at minimum, 6 individuals were removed from the Rose Mound site by Wiley Wilcox of Memphis, TN. This site is located in Cross County, AR. The material was donated to the Glenn A. Black Laboratory of Archaeology in February 1953. No known individuals were identified. The 102 associated funerary objects are 3 reconstructed pots, 76 pot sherds, 2 antler hafts, 5 antler flaking punches, 1 deer antler fork, 2 small antler fragments, 8 shell beads, 1 flint flake, 1 chert point, 1 flint scraper, 1 hammerstone, and 1 proximal deer ulna.

In 1952, human remains representing, at minimum, 1 individual were collected from the Humbert Site in Coahoma County, MS, by Donald Willis of Memphis, TN. On an unknown date, this collection was donated to the Glenn A. Black Laboratory of Archaeology. No known individuals were identified. The 20 associated funerary objects are 19 pot sherds and 1 partially reconstructed polychrome water bottle.

On an unknown date, human remains representing, at minimum, 1 individual were collected from the Lake Cormorant site in DeSoto County, MS, by Wiley Wilcox of Memphis, TN. This collection was donated to the Glenn A. Black Laboratory of Archaeology in March 1952. No known individuals were identified. No associated funerary objects are present.

On an unknown date, human remains representing, at minimum, 2 individuals were recovered from the Big Eddy site by Wiley Wilcox of Memphis, TN. This site is located near the St. Francis area in Arkansas. This material was donated to the Glenn A. Black Laboratory in 1953. No known individuals were identified. No associated funerary objects are present.

On an unknown date, human remains representing, at minimum, 3 individuals were recovered from the Brackenseed Place site in Arkansas. Notes indicate this material was collected by Wiley Wilcox and J.E. Boone of Memphis, TN. This collection was donated to the Glenn A. Black Laboratory of Archaeology in 1953. No known individuals were identified. The 6 associated funerary objects are 6 pieces of daub.

On an unknown date, human remains representing, at minimum, 1 individual were removed from the Edmondson site in Crittenden County, AR, by Donald Willis of Memphis, TN. This collection was donated to the Glenn A. Black Laboratory of Archaeology in 1953. No known individuals were identified. No associated funerary objects are present.

Oral traditions indicate that the Quapaw tribe originated in the Lower Ohio River Valley and eventually moved downstream to reside on both sides of the Mississippi River. After an epidemic swept through the villages in the 17th century, the Quapaw Tribe consolidated their villages on the western side of the Mississippi River near the confluence of the White and Arkansas rivers. The Quapaw maintained a presence in the Central Mississippi valley until their removal to northwest Louisiana in 1824 when their lands in the Territory of Arkansas were ceded to the United States. Oral history evidence presented by representatives of The Quapaw Tribe of Indians indicates that the St. Francis River Valley region, which includes Cross and St. Francis Counties, has long been included in the traditional and hunting territory of the Quapaw. French colonial records (A.D. 1700) also indicate that the Quapaw were known to be the only Native American group present at that time in eastern Arkansas.

Determinations Made by Indiana University

Officials of the Glenn A. Black Laboratory of Archaeology at Indiana University have determined that:

• Pursuant to 25 U.S.C. 3001(9), the human remains described in this notice represent the physical remains of 32 individuals of Native American ancestry.

• Pursuant to 25 U.S.C. 3001(3)(A), the 183 objects described in this notice are reasonably believed to have been placed with or near individual human remains at the time of death or later as part of the death rite or ceremony.

• Pursuant to 25 U.S.C. 3001(2), there is a relationship of shared group identity that can be reasonably traced between the Native American human remains and The Quapaw Tribe of Indians.

Additional Requestors and Disposition

Lineal descendants or representatives of any Indian tribe or Native Hawaiian organization not identified in this notice that wish to request transfer of control of these human remains should submit a written request with information in support of the request to Dr. Jayne-Leigh Thomas, NAGPRA Director, Indiana University, NAGPRA Office, Student Building 318, 701 E. Kirkwood Ave., Bloomington, IN 47405, telephone (812) 856-5315, email thomajay@indiana.edu, by December 17, 2014. After that date, if no additional requestors have come forward, transfer of control of the human remains and associated funerary objects to The Quapaw Tribe of Indians may proceed.

Indiana University is responsible for notifying The Quapaw Tribe of Indians that this notice has been published.

Dated: October 2, 2014.
Melanie O'Brien,
Acting Manager, National NAGPRA Program.

[FR Doc. 2014-27142 Filed 11-14-14; 8:45 am]

BILLING CODE 4310-70-P